DEPARTMENT OF ENERGY

Federal Energy Regulatory Commission

[Project No. 13318-003]

Swan Lake North Hydro LLC; Notice of Intent To Prepare an Environmental Impact Statement and Notice of Scoping Meetings and Environmental Site Review and Soliciting Scoping Comments

Take notice that the following hydroelectric application has been filed with Commission and is available for public inspection:

a. Type of Application: Original Major License.

b. Project No.: 13318-003.

c. Date filed: October 28, 2015.

d. Applicant: Swan Lake North Hydro LLC.

e. Name of Project: Swan Lake North Pumped Storage Hydroelectric Project.

f. Location: Approximately 11 miles northeast of the city of Klamath Falls, Klamath County, Oregon. The proposed project would include about 730 acres of federal land managed by the U.S. Bureau of Land Management and the U.S. Bureau of Reclamation.

g. Filed Pursuant to: Federal Power Act, 16 U.S.C. 791(a)-825(r).

h. Applicant Contact: Joe Eberhardt, EDF-Renewable Energy, 1000 SW Broadway Ave., Ste. 1800, Portland, OR 97205; phone: (503) 889-3838.

i. FERC Contact: Dianne Rodman, dianne.rodman@ferc.gov, (202) 502-6077.

j. Deadline for filing scoping comments: September 9, 2016.

The Commission strongly encourages electronic filing. Please file scoping comments using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13318-003.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The proposed project would be a closed-loop system using groundwater for initial fill and consist of the following new facilities: (1) A 7,972-foot-long earthen embankment forming a geomembrane-lined upper reservoir with a surface area of 64.21 acres and a storage capacity of 2,568 acre-feet at a maximum surface elevation of 6,135 feet above mean sea level (msl); (2) a 8,003-foot-long earthen embankment forming a geomembrane-lined lower reservoir with a surface area of 60.14 acres and a storage capacity of 3,206 acre-feet at a maximum surface elevation of 4,457 feet msl; (3) a 500-foot-long, rip-rap lined trapezoidal spillway built into the crest of each embankment; (4) a 0.5-percent slope perforated polyvinyl chloride tube of varying diameter and accompanying optical fiber drainage system designed to detect, collect, and monitor water leakage from the reservoirs; (5) a 25-inch-diameter bottom outlet with manual valve for gravitational dewatering of the lower reservoir; (6) an upper intake consisting of a bell mouth, 38.6-foot-wide by 29.8-foot-long inclined screen, head gate, and 13.8-foot-diameter foundational steel pipe; (7) a 36.5-foot-diameter, 9,655-foot-long steel high-pressure penstock from the upper reservoir to the powerhouse that is predominantly above ground with a 14-foot-long buried segment; (8) three 9.8-foot-diameter, 1,430-foot-long steel low-pressure penstocks from the lower reservoir to the powerhouse that are predominantly above ground with a 78-foot-long buried segment; (9) a partially-buried powerhouse with three 131.1-megawatt (MW) reversible pump-turbine units with a total installed capacity of 393.3 MW; (10) a fenced substation next to the powerhouse; (11) 32.8 mile, 230-kilovolt above-ground transmission line interconnecting to an existing non-project substation; (12) approximately 10.7 miles of improved project access road; (13) approximately 3.4 miles of new permanent project access road; (14) approximately 8.3 miles of temporary project access road; and (15) appurtenant facilities. The project would generate about 1,187 gigawatt-hours annually.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process. The Commission intends to prepare an Environmental Impact Statement (EIS) on the project in accordance with the National Environmental Policy Act. The EIS will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EIS. The times and locations of these meetings are as follows:

Agency Scoping Meeting

DATE: Wednesday, August 10, 2016.

TIME: 9:00 a.m.

PLACE: Mt. Scott Room.

ADDRESS: College Union, Oregon Institute of Technology, 3201 Campus Drive, Klamath Falls, OR 97601.

Public Scoping Meeting

DATE: Tuesday, August 9, 2016.

TIME: 7:00 p.m.

PLACE: Mt. Mazama Room.

ADDRESS: College Union, Oregon Institute of Technology, 3201 Campus Drive, Klamath Falls, OR 97601.

Copies of the Scoping Document (SD1) outlining the subject areas to be addressed in the EIS were distributed to the parties on the Commission's mailing list. Copies of the SD1 will be available at the scoping meeting or may be viewed on the web at http://www.ferc.gov using the “eLibrary” link (see item m above).

Environmental Site Review

The Applicant and FERC staff will conduct a project Environmental Site Review beginning at 9:00 a.m. on August 9, 2016. All interested individuals, organizations, and agencies are invited to attend. All participants should meet at the Edgewood Ranch, 12501 Swan Falls Road, Klamath Falls, Oregon. To reach the ranch from Main Street in Klamath Falls, follow Oregon 39 South/Crater Lake east and south of town. Follow signs for a slight left turn onto Oregon 140 East and follow it for 9.4 miles to Swan Lake Road. Follow Swan Lake Road for 9.4 miles. Edgewood Ranch is located off a driveway at the corner of a 90-degree left-land turn in Swan Lake Road. The main office building is located immediately on the right. Parking is available at the entry driveway before the main office building. Anyone with questions about the Environmental Site Review should contact Joe Eberhardt of EDF-Renewable Energy at (503) 889-3838.

Objectives

At the scoping meetings, the staff will: (1) Summarize the environmental issues tentatively identified for analysis in the EIS; (2) solicit from the meeting participants all available information, especially quantifiable data, on the resources at issue; (3) encourage statements from experts and the public on issues that should be analyzed in the EIS, including viewpoints in opposition to, or in support of, the staff's preliminary views; (4) determine the resource issues to be addressed in the EIS; and (5) identify those issues that require a detailed analysis, as well as those issues that do not require a detailed analysis.

Procedures

The meetings will be recorded by a stenographer and become part of the formal record of the Commission proceeding on the project.

Individuals, organizations, and agencies with environmental expertise and concerns are encouraged to attend the meeting and to assist the staff in defining and clarifying the issues to be addressed in the EIS.

Dated: July 8, 2016.
Kimberly D. Bose,
Secretary.

[FR Doc. 2016-16651 Filed 7-13-16; 8:45 am]

BILLING CODE 6717-01-P